DEPARTMENT OF THE INTERIOR

Bureau of Land Management

[WY-100-05-1310-DB]

Notice of Availability of a Revised Draft Supplemental Environmental Impact Statement for the Pinedale Anticline Oil and Gas Exploration and Development Project, Sublette County, WY

AGENCY: Bureau of Land Management, Interior.

ACTION: Notice of Availability.

SUMMARY: In accordance with the National Environmental Policy Act (NEPA, 42 U.S.C. 4321 et seq.) of 1969, the Bureau of Land Management (BLM) announces the availability of a Revised Draft Supplemental Environmental Impact Statement for long-term development of natural gas resources in the Pinedale Anticline Project Area (PAPA).

The BLM released a Draft Supplemental Impact Statement (DSEIS) on December 15, 2006. The comment period for the DSEIS closed on April 6, 2007. Based upon public comments, BLM is reissuing a Revised Draft Supplemental Environmental Impact Statement (RDSEIS) to include the analysis of two additional alternatives. The RDSEIS includes the three alternatives that were analyzed in the original draft: the no action, proposed action, and the BLM preferred alternative. It also includes two additional alternatives: One based upon the comments BLM received from oil and gas proponents and the State of Wyoming Game and Fish; and an additional alternative which analyzes full field development with current wildlife timing stipulations in place.

The first added alternative analyzes the effects of continued development activities during winter under relaxed wildlife timing stipulations within a core area of the PAPA. In addition, leases on the East and West flanks of the PAPA are proposed to be placed in suspense to offset affected winter habitat in the core development areas. A wildlife matrix and mitigation fund has been incorporated into this alternative to address on and off-site mitigation.

The second added alternative analyzes the effects of full field development with wildlife timing stipulations carried forward from the 2000 PAPA ROD and subsequent PAPA decision documents. This alternative would allow for the development of 4399 wells, the level of development currently considered necessary to effectively recover the oil and gas resources.

In addition to the two new alternatives, the RDSEIS will analyze pace of development. This analysis will show levels of impact associated with the number of rigs operating at any one time in the PAPA.

DATES: This notice initiates the public comment process. The BLM can best use public input if comments and resources information are submitted within 45 days of the publication of this notice.

ADDRESSES: Please send written comments or resource information to the Bureau of Land Management, Pinedale Field Office, Caleb Hiner, Project Manager, 432 East Mill Street, P.O. Box 768, Pinedale, Wyoming 82941. Electronic mail may be sent to: WYMail_PAPA_YRA@blm.gov. The RDSEIS will be posted at http://www.blm.gov/wy/st/en/info/NEPA/pfodocs/anticline/seis.html when available. Your response is important and will be considered in the environmental analysis process. If you do respond, we will keep you informed of decisions resulting from this analysis. Please note that public comments and information submitted regarding this project including names, e-mail addresses and street addresses of the respondents will be available for public review and disclosure at the above address during regular business hours (7:45 a.m. to 4:30 p.m., Monday through Friday, except holidays). Before including your address, phone number, e-mail address, or other personal identifying information in your comment, be advised that your entire comment—including your personal identifying information—may be made publicly available at any time. While you can ask us in your comment to withhold from public review your personal identifying information, we cannot guarantee that we will be able to do so.

FOR FURTHER INFORMATION CONTACT: Bureau of Land Management, Caleb Hiner, Project Manager, 1625 West Pine, P.O. Box 768, Pinedale, Wyoming 82941. Mr. Hiner may also be reached by telephone at (307) 367-5352, or by sending an electronic message to: caleb_hiner@blm.gov.

SUPPLEMENTARY INFORMATION: The BLM released a Draft SEIS on December 15, 2006, based on a proposal received for long-term development of natural gas resources in the PAPA from Questar Exploration and Production (Questar), Shell Exploration and Production Company (Shell), and Ultra Resources Inc. (Ultra). The Operators proposed to conduct year round drilling and completions in Concentrated Development Areas within a Core Development Area (coinciding with the Anticline Crest) in the PAPA. In 2000, the PAPA Record of Decision (ROD) for development on the PAPA established seasonal restrictions on natural gas development to minimize adverse effects on wintering big game and sage grouse during breeding and nesting. The Operators proposed an additional 4,399 wells on approximately 10-acre bottom hole spacing from an additional 250 well pads to effectively recover the mineral resource. The proposed development included construction of new well pads and substantial expansion of existing well pads to allow for multiple wells drilled from a pad.

The PAPA ROD established restrictions on when oil and gas development activities may occur. The NEPA document did not include analysis of the potential impacts of oil and gas development activities (specifically drilling and completions) to big game on crucial winter ranges during the period of November 15 through April 30.

The air quality impact analysis considered a total of 900 wells drilled with 700 producing well pads. The PAPA ROD stated that if the level of development exceeds that analyzed in the Draft EIS, BLM would conduct additional environmental analysis. There are currently approximately 460 producing wells in the PAPA. In addition, the BLM has determined that there is a need for new pipeline corridors between the PAPA and processing plants in southwestern Wyoming. Therefore, the RDSEIS will also include analysis of new corridors. In addition, specific analysis is included in the RDSEIS for two additional gas sales pipelines from the PAPA, one to the Granger and Blacks Fork gas plants and one from the PAPA to the Opal and Pioneer gas plants.

The BLM has identified the following resources that may be adversely impacted by the proposal: Surface and ground water resources; air quality; wildlife and their habitats; reclamation; visual resources; transportation; noxious weed control; grazing, cultural and paleontological resources; wetland and riparian resources; threatened and endangered animal and plant species; and socioeconomic resources.

The BLM conducted NEPA analysis and issued a ROD for the Pinedale Anticline Oil and Gas Exploration and Development Project in July 2000. The BLM conducted this analysis in response to increasing numbers of operators requesting approval to drill and develop gas wells on the Pinedale Anticline. The NEPA document analyzed three alternatives with different levels of required mitigation and for each alternative there were three exploration and development scenarios based on the density and distribution of well pad development. The PAPA ROD established protection of big game crucial winter ranges from oil and gas developments (well drilling and completion) during the winter months.

The PAPA ROD provided that the BLM could grant limited exceptions to this winter closure period based on current conditions such as presence of wintering animals or depth of snow cover. However, each exception was to be made on a case-by-case basis (annually) and usually with the requirement that should winter conditions prevail, those activities would cease.

Starting in the winter 2002-2003, the BLM authorized Questar Exploration and Development Company (Questar) to continue gas development operations at one well pad within big game crucial winter range with the requirement that Questar work closely with the Wyoming Game and Fish Department in its study of impacts to the Sublette Mule Deer. In November 2004, the BLM issued a Decision Record allowing Questar to expand their development activities in crucial mule deer winter range during winter while continuing to support the Sublette Mule Deer Study (Questar Year-Round Drilling Proposal Environmental Assessment, November 2004).

Since then other operators within the Pinedale Anticline have expressed interest in conducting gas development activities including year-round drilling within big game crucial winter range. In the summer of 2005, Anschutz, Shell, and Ultra submitted a proposal to the BLM for year-round drilling demonstration project on three well pads within their leaseholds during one year. In September 2005, BLM issued a Decision Record to allow them to proceed (ASU Year-Round Drilling Demonstration Project, September 2005). The Decision Record allowed each of the three operators to drill year-round on one well pad each on crucial winter range during the winter of 2005-2006. The result of that project led the Operators to the current proposal and to BLM's determination that a Supplemental EIS is necessary. The PAPA encompasses approximately 198,034 acres of primarily Federal lands (nearly 80 percent), and state and private land. Approximately 83 percent of the mineral estate underlying the PAPA is federally-owned.

James K. Murkin,
Acting Associate State Director.

[FR Doc. E7-24955 Filed 12-27-07; 8:45 am]

BILLING CODE 4310-22-P